DEPARTMENT OF COMMERCE

Technology Administration

Technology Administration Performance Review Board Membership

The Technology Administration Performance Review Board (TA PRB) reviews performance appraisals, agreements, and recommended actions pertaining to employees in the Senior Executive Service and reviews performance-related pay increases for ST-3104 employees. The Board makes recommendations to the appropriate appointing authority concerning such matters so as to ensure the fair and equitable treatment of these individuals.

This notice lists the membership of the TA PRB and supersedes the list published in Federal Register Document 01-23214, Vol. 66, No. 181, page 48118, dated September 18, 2001.

Cathleen Campbell (C), Director of International Technology, Policy and Programs, Technology Administration, Washington, DC 20230, Appointment Expires: 12/31/02.

Cynthia Clark (C), Associate Director for Methodology & Standards, Census Bureau, Washington, DC 20233, Appointment Expires: 12/31/01.

Gordon W. Day (C), Chief, Optoelectronics Division, Electronics and Engineering Laboratory Office, National Institute of Standards & Technology, Boulder, CO 80303, Appointment Expires: 12/31/01.

Dale E. Hall (C), Deputy Director, Materials Science, and Engineering Laboratory, Materials Science and Engineering Laboratory, National Institute of Standards & Technology, Gaithersburg, MD 20899-8500, Appointment Expires: 12/31/01.

Daniel Hurley (C), Director of Communication and Information, Infrastructure Assurance Program, National Telecommunications and Information Administration, Washington, DC 20230, Appointment Expires: 12/31/03.

Robert F. Moore (C), Deputy Director for Safety and Facilities, National Institute of Standards & Technology, Gaithersburg, MD 20899-3200, Appointment Expires: 12/31/03.

Dennis Swyt (C), Chief, Precision Engineering Division, Manufacturing Engineering Laboratory, National Institute of Standards & Technology, Gaithersburg, MD 20899-8210, Appointment Expires: 12/31/02.

Kathleen Taylor (C), Chief, Employment and Labor Law Division, Assistant General Counsel for Administration, Office of the General Counsel, Office of the Secretary, Washington, DC 20230, Appointment Expires: 12/31/03.

Susan Zevin (C), Deputy Director, Information Technology Laboratory, Information Technology Laboratory, National Institute of Standards & Technology, Gaithersburg, MD 20899-8900, Appointment Expires: 12/31/02.

Dated: November 20, 2001.
Phillip J. Bond,
Under Secretary of Commerce for Technology, Technology Administration, Department of Commerce.

[FR Doc. 01-29675 Filed 11-28-01; 8:45 am]

BILLING CODE 3510-18-M